DEPARTMENT OF ENERGY

Federal Energy Regulatory Commission

Combined Notice of Filings #1

Take notice that the Commission received the following exempt wholesale generator filings:

Docket Numbers: EG15-55-000.

Applicants: Nueces Bay WLE, LP.

Description: Notice of Self-Certification of Exempt Wholesale Generator Status of Nueces Bay WLE, LP.

Filed Date: 2/26/15.

Accession Number: 20150226-5123.

Comments Due: 5 p.m. ET 3/19/15.

Take notice that the Commission received the following electric rate filings:

Docket Numbers: ER15-536-001

Applicants: PJM Interconnection, L.L.C., Baltimore Gas and Electric Company.

Description: Compliance filing per 35: BGE submits Compliance Filing per 1/30/15 Order in Docket No. ER15-536-000 to be effective 2/2/2015.

Filed Date: 2/26/15.

Accession Number: 20150226-5090.

Comments Due: 5 p.m. ET 3/19/15.

Docket Numbers: ER15-1123-000.

Applicants: New York State Electric & Gas Corporation, New York Independent System Operator, Inc.

Description: § 205(d) rate filing per 35.13(a)(2)(iii): Amended & Restated LGIA No. 1396 NYISO, NYSEG & Sheldon Energy to be effective 2/18/2015.

Filed Date: 2/25/15.

Accession Number: 20150225-5313.

Comments Due: 5 p.m. ET 3/18/15.

Docket Numbers: ER15-1124-000.

Applicants: California Independent System Operator Corporation.

Description: § 205(d) rate filing per 35.13(a)(2)(iii): 2015-02-25_NextEraLGIA_Concurrence to be effective 2/19/2015.

Filed Date: 2/25/15.

Accession Number: 20150225-5315.

Comments Due: 5 p.m. ET 3/18/15.

Docket Numbers: ER15-1125-000.

Applicants: Entergy Arkansas, Inc.

Description: Tariff Withdrawal per 35.15: EAI Notice of Cancellation of SA 644 to be effective 1/26/2015.

Filed Date: 2/25/15.

Accession Number: 20150225-5326.

Comments Due: 5 p.m. ET 3/18/15.

Docket Numbers: ER15-1126-000.

Applicants: Pacific Gas and Electric Company.

Description: § 205(d) rate filing per 35.13(a)(2)(iii): CCSF IA—2015 Annual Adjustment to Traffic Light Costs to be effective 2/1/2015.

Filed Date: 2/25/15.

Accession Number: 20150225-5331.

Comments Due: 5 p.m. ET 3/18/15.

Docket Numbers: ER15-1127-000.

Applicants: ITC Midwest LLC.

Description: § 205(d) rate filing per 35.13(a)(2)(iii): CIAC Agreement Between ITC Midwest and Dairyland Power Cooperative to be effective 4/27/2015.

Filed Date: 2/26/15.

Accession Number: 20150226-5221.

Comments Due: 5 p.m. ET 3/19/15.

Docket Numbers: ER15-1128-000.

Applicants: Arizona Public Service Company.

Description: § 205(d) rate filing per 35.13(a)(2)(iii): Rate Schedule No. 260—Fully Executed Version to be effective 10/21/2011.

Filed Date: 2/26/15.

Accession Number: 20150226-5247.

Comments Due: 5 p.m. ET 3/19/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 26, 2015.
Nathaniel J. Davis, Sr.,
Deputy Secretary.

[FR Doc. 2015-04447 Filed 3-3-15; 8:45 am]

BILLING CODE 6717-01-P